DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

Rao M. Adibhatla, Ph.D., University of Wisconsin: Based on the report of an investigation conducted by the University of Wisconsin (UW) and additional analysis conducted by ORI in its oversight review, ORI found that Dr. Rao M. Adibhatla, Assistant Professor, Department of Neurological Surgery, UW, engaged in research misconduct by falsifying results in two publications supported by National Institute of Neurological Diseases and Stroke (NINDS), National Institutes of Health (NIH), grant R01 NS042008 and in three unfunded applications that Dr. Adibhatla submitted to NINDS, NIH, as R01 NS042008-05, -05A1, and -05A2. The questioned papers are:

1. Adibhatla, R.M., Hatcher, J.F., Larsen E.C. et al. “CDP-choline Significantly Restores Phoshatidylcholine Levels by Differentially Affecting Phospholipase A2 and CTP:Phosphocholine Cytidylyltransferase after Stroke.” J. Biol. Chem. 281:6718-6725, 2006 (hereafter referred to as the “JBC paper”), as the sPLA2-IIA, CCTα, and PLD2 data in Figures 1B, 2A, and 3A, respectively

2. Adibhatla, R.M., & Hatcher, J.F. “Secretory phospholipase A2 IIA is Up-regulated by TNF-α and IL-1α/β after Transient Focal Cerebral Ischemia in Rat.” Brain Research 1134:199-205, 2007 (hereafter referred to as the “Brain Research paper”), as the sPLA2-IIA data in Figures 2A and 2C.

ORI found that Respondent committed research misconduct by falsifying Western blot images as well as quantitative and statistical data obtained from purported scans of the films. The research studied the effect of cerebral ischemia on phospholipid homeostasis in an experimental animal model (SHR rat) of stroke during the course of reperfusion of the ischemic cortex. The falsified Western blot images and derivative quantitative data describe changes in levels of sPLA2-IIAA, CCTα, and of PLD2 during reperfusion in the ischemic cortex.

Specifically, the Respondent:

• Falsified the Western blot data demonstrating sPLA2 expression in a time course after ischemia in Figure 1B of the JBC paper and Figure 2A and 2C of the Brain Research paper by rearranging the bands such that the labels do not accurately portray what is in the lanes. He perpetuated the falsification by presenting the quantification of the single falsified Western blot in a bar graph as the average of five (5) replicate Western blots. The result in the paper cannot be substantiated by the actual experiments.

• Falsified the Western blot data demonstrating CCTα expression in a time course assay after ischemia in Figure 2A of the JBC paper by rearranging the bands such that the labels do not accurately portray what is in the lanes. He perpetuated the falsification by presenting the quantification of the single falsified Western blot in a bar graph as the average of four (4) replicate Western blots and the six (6) hour time point was further falsified to make the results look better. The result in the paper cannot be substantiated by the actual experiments.

• Falsified the quantification of a Western blot demonstrating PLD2 expression in a time course after ischemia in Figure 3A of the JBC paper by claiming a bar graph quantifying a single Western blot is the average of four Western blots.

• Submitted the same falsified Western blot images and bar graph data in three unfunded grant applications: NS042008-05, NS042008-05A1, and NS042008-05A2. Specifically:

< the falsified sPLA2-IIA data were submitted as Figures 3, 8, and 12 in the respective NS042008-05, -05A1, and -05A2 applications

< the falsified CCTα data appeared as Figures 10, 15, and 16 in the respective -05, -05A1, and -05A2 applications

< The falsified PLD2 bar graph data and associated statistical claims appeared as Figures 8 and 13 in the -05 and -05A1 applications respectively.

Dr. Adibhatla has entered into a Voluntary Exclusion Agreement and has voluntarily agreed:

(1) To exclude himself voluntarily for a period of two (2) years from the effective date of the Agreement from any contracting or subcontracting with any agency of the United States Government and from eligibility or involvement in nonprocurement programs of the United States pursuant to HHS' Implementation (2 CFR part 376 et seq.) of OMB Guidelines to Agencies on Governmentwide Debarment and Suspension, 2 CFR Part 180 (collectively the “Debarment Regulations”);

(2) To exclude himself voluntarily from serving in any advisory capacity to PHS including, but not limited to, service on any PHS advisory committee, board, and/or peer review committee, or as a consultant for a period of three (3) years beginning on December 18, 2012; and

(3) To request retraction of the following papers:

• J. Biol. Chem. 281:6718-6725, 2006

• Brain Research 1134:199-205, 2007.

FOR FURTHER INFORMATION CONTACT: Director, Office of Research Integrity, 1101 Wootton Parkway, Suite 750, Rockville, MD 20852, (240) 453-8200.

David E. Wright,
Director, Office of Research Integrity.

[FR Doc. 2013-01454 Filed 1-24-13; 8:45 am]

BILLING CODE 4150-31-P